Title 3—

The President

Proclamation 10950 of June 6, 2025

National Ocean Month, 2025

By the President of the United States of America

A Proclamation

This National Ocean Month, my Administration recognizes the foundational role our bordering oceans have played in our treasured national story—and we pledge to harness their resources, preserve their majesty, and channel their power to safeguard American interests and uphold our way of life.

As President, I am steadfastly committed to restoring America's maritime dominance—including in the realms of trade, military readiness, and resource production. For this reason, on my first day in office, I proudly renamed the largest gulf in the world to the Gulf of America, recognizing its status as a vital extension of the Atlantic Ocean and its central role in our economy, history, and national identity.

To further expand American leadership at sea, I signed an Executive Order to revitalize our Nation's dominance in offshore critical minerals and resources. Every day, we are rapidly developing our domestic capabilities for the exploration, production, and processing of critical minerals from the deep seabed that are vital to our economic and strategic advantage. In April, I signed a proclamation to open the Pacific Remote Islands National Monument to commercial fishing. As part of my America First vision, I also took action to bring back American seafood competitiveness, end trade practices that harm American fishermen, and boost domestic seafood production and exports.

Under my leadership, we are in the midst of a new chapter of American freedom, prosperity, and strength—both within our shores and beyond our coasts.

This National Ocean Month, my Administration renews its resolve to usher in a new and radiant golden age both at home and at sea—using our oceans and their magnificent resources to empower our citizens, defend our homeland, and preserve our glorious American sovereignty for generations to come.

NOW, THEREFORE, I, DONALD J. TRUMP, President of the United States of America, by virtue of the authority vested in me by the Constitution and the laws of the United States, do hereby proclaim June 2025 as National Ocean Month. This month, I call upon Americans to reflect on the value and importance of oceans not only to our security, environment, and economy but also as a source of recreation and enjoyment.

IN WITNESS WHEREOF, I have hereunto set my hand this sixth day of June, in the year of our Lord two thousand twenty-five, and of the Independence of the United States of America the two hundred and forty-ninth.

[FR Doc. 2025-10790

Filed 6-10-25; 11:15 am]

Billing code 3395-F4-P